DEPARTMENT OF COMMERCE

National Oceanic and Atmospheric Administration

Agency Information Collection Activities; Submission to the Office of Management and Budget (OMB) for Review and Approval; Comment Request; Sea Grant Program Application Requirements for Grants, for Sea Grant Fellowships, Including the Dean John A. Knauss Marine Policy Fellowships, and for Designation as a Sea Grant College or Sea Grant Institution

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 28, 2020.

ADDRESSES: Interested persons are invited to submit written comments to Adrienne Thomas, NOAA PRA Officer, at Adrienne.thomas@noaa.gov. Please reference OMB Control Number 0648-0362 in the subject line of your comments. Do not submit Confidential Business Information or otherwise sensitive or protected information.

FOR FURTHER INFORMATION CONTACT: Requests for additional information or specific questions related to collection activities should be directed to Doug Bell, National Sea Grant Office, (301-734-1080), and oar.sg.info-admin@noaa.gov.

SUPPLEMENTARY INFORMATION:

I. Abstract

This request is for the extension, with minor proposed revisions, of a currently approved information collection.

The objectives of the National Sea Grant College Program, as stated in the Sea Grant legislation (33 U.S.C. 1121 et seq.) are to increase the understanding, assessments, development, utilization, and conservation of the Nation's ocean, coastal, and Great Lakes resources. It accomplishes these objectives by conducting research, education, and outreach programs. Grant monies are available for funding activities that help obtain the objectives of the Sea Grant Program. Both single and multi-project grants are awarded, with the latter representing approximately 80 percent of the total grant program. In addition to other standard grant application requirements, three forms are required with the grants. The Sea Grant Control Form (NOAA Form 90-1) is used to identify the organizations and personnel who would be involved in the grant and briefly summarize the proposed activities under the grant. The Project Record Form (NOAA Form 90-2), which collects summary data on projects, helps the National Sea Grant Office (NSGO) evaluate the proposals during its funding decisions. The Sea Grant Budget Form (NOAA Form 90-4) provides information similar to, but more detailed than, standardized budget forms SF-424A or SF-424C, and allows the NSGO to determine whether or not the breakdown cost of multi-project grant awards is reasonable. Collectively, the data supplied in these documents form the basis for many of NSGO's responses to the Administration, the Congress, other agencies, and to the public about the scope of Sea Grant activities.

The National Sea Grant College Program Act (33 U.S.C. 1126) also provides for the designation of a public or private institution of higher education, institute, laboratory, or State or local agency as a Sea Grant college or Sea Grant institute. Applications are required for designation of Sea Grant Colleges and Sea Grant Institutes, although no forms are required. The data the collection provides helps the National Sea Grant Office determine the suitability of the applicant for meeting the standards and conditions for being a Sea Grant College as set forth in 33 U.S.C. 1126 and 15 CFR 918.5.

The NSGO proposes two primary revisions to this information collection. The NOAA Form 90-2 is collected using an Excel spreadsheet (>98% of use cases). The NSGO intends to migrate the Excel spreadsheet to an online webform that is hosted on Sea Grant's Planning, Implementation and Evaluation Resource (PIER) database. The online webform would provide an additional and alternative method of information collection, but not eliminate the option for an Excel-based collection. The webform may require slight modifications on the form structure and existing data formats (such as “Classifications” or “Partners”). These modifications may be driven by software requirements, but are mostly sought to improve information management and the user interface. Public comments from previous extensions of this information collection have requested linkage of the NOAA Form 90-2 to the PIER database. This modification would enable synchronization of existing PIER data, so that time of user entry and data quality control is minimized. The second proposed revision utilizes existing components of the NOAA Form 90-2. The NSGO is proposing to collect more resolved information that will allow Sea Grant to classify the level of effort by topic (i.e., “Classification”) for a subset of funded activities. This collection may modify the existing NOAA Form 90-2, but may also exist as a new form, if that method of collection is determined to be more effective and efficient. This collection would improve NSGO's responses to the Administration, the Congress, other agencies, and to the public about the scope of Sea Grant activities.

II. Method of Collection

Responses are made in a variety of formats, including forms and narrative submissions, via mail, fax or email. The Sea Grant Project Record Form (NOAA Form 90-2) and Sea Grant Budget Form (NOAA Form 90-4) must be submitted in electronic format through grants.gov if the grant applicant has the means to do so. The proposed modification would also enable the NOAA Form 90-2 to be submitted via electronic format.

III. Data

OMB Control Number: 0648-0362.

Form Number(s): NOAA Forms 90-1, 90-2, and 90-4.

Type of Review: Regular submission (extension and revision of a currently approved information collection).

Affected Public: Academic and not-for-profit institutions; individuals or households; business or other for-profit organizations; State, Local, or Tribal government.

Estimated Number of Respondents: 680.

Estimated Time per Response: 30 minutes for a Sea Grant Control form; 20 minutes for a Project Record Form; 15 minutes for a Sea Grant Budget form; and 20 hours for an application for designation as a Sea Grant college or Sea Grant institute.

Estimated Total Annual Burden Hours: 1091.

Estimated Total Annual Cost to Public: $170 for record keeping and mailed submissions.

Respondent's Obligation: Required to Obtain or Retain Benefits.

Legal Authority: 33 U.S.C. 1121 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-23821 Filed 10-27-20; 8:45 am]

BILLING CODE 3510-KA-P